DEPARTMENT OF AGRICULTURE

Submission for OMB Review; Comment Request

October 7, 2004

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), Pamela_Beverly_OIRA Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Farm Service Agency

Title: Tobacco Marketing Quotas and Price Support (7 CFR Parts 711, 723, and 1464).

OMB Control Number: 0560-0058.

Summary of Collection: The Tobacco Marketing Quota Programs are regulated by the United States Department of Agriculture. Tobacco marketing quota regulations govern the establishment of farm acreage allotments and marketing quotas, the issuance of marketing cards, the identification of marketing of tobacco, the collection of penalties, eligibility for price support and requirements on tobacco dealers, warehouse operators, and manufacturers of cigarettes. The Farm Service Agency (FSA) tries to make sure that producers will receive fair prices for their tobacco. This is done by administering the tobacco program through the use of marketing quotas, which balance supply and demand for tobacco with price support. The Agricultural Adjustment Act of 1938, and the Agricultural Act of 1949, provide the statutory authority for this information collection. FSA will collect information using several forms.

Need and Use of the Information: FSA will collect tobacco reports and financial records from producers, owners of tobacco allotments and quotas and warehouse operators. The information is used by the tobacco industry to accomplish its goal and objectives. If the information is not collected, it could result in an ineffective marketing quota program and the production and marketing of large amounts of excess tobacco.

Description of Respondents: Farm; business or other for-profit; individuals or households; Federal Government.

Number of Respondents: 361,000.

Frequency of Responses: Recordkeeping; reporting: On occasion; weekly; annually.

Total Burden Hours: 1,541,420.

Animal and Plant Health Inspection Service

Title: 9 CFR 75 Communicable Diseases in Horses.

OMB Control Number: 0579-0127.

Summary of Collection: The Animal and Plant Health Inspection Service (APHIS) regulates the importation and interstate movement of animals and animal products, and conducts various other activities to protect the health of the nation's livestock and poultry. Equine Infectious Anemia (EIA) is an infectious and potentially fatal viral disease of equines. The regulations in 9 CFR 75.4 govern the interstate movement of equines that have tested positive to an official test for EIA and provide for the approval of laboratories, diagnostic facilities, and research facilities.

Need and Use of the Information: The information collected from forms, APHIS VS 10-11, Equine Infectious Anemia Laboratory Test, 10-12, Equine Infectious Anemia Supplemental Investigation and 1-27, Permit for the Movement of Restricted Animals, will be used to prevent the spread of equine infectious anemia. Without the information, it would be impossible for APHIS to effectively regulate the interstate movement of horses infected with EIA.

Description of Respondents: Individuals or households; farms; business or other for-profit; State, Local and Tribal Government.

Number of Respondents: 10,000.

Frequency of Responses: Recordkeeping; reporting: On occasion.

Total Burden Hours: 195,410.

Animal and Plant Health Inspection Service

Title: Importation of Horses, Ruminants, Swine, and Dogs; Inspection and Treatment for Screwworm.

OMB Control Number: 0579-0165.

Summary of Collection: The Animal and Plant Health Inspection Service (APHIS) of the United States Department of Agriculture is charged with disease prevention. The regulations under which APHIS conduct disease prevention activities are contained in Title 9, Chapter 1, Subchapter D, Parts 91 through 99. APHIS requires horses, ruminants, swine, and dogs imported into the United States from regions of the world where screwworm is known to exist to be inspected and, if necessary, treated for infestation with screwworm. Screwworm is a pest native to tropical areas of South America, the Indian subcontinent, Southeast Asia, tropical and sub-Saharan Africa, and the Arabian Peninsula that causes extensive damage to livestock and other warm-blooded animals.

Need and Use of the Information: Horses, ruminants, swine, and dogs entering the United States from regions where screwworm is known to exist must be accompanied by a certificate, signed by a full-time salaried veterinary official of the exporting country, stating that these animals have been thoroughly examined, that they have been treated with ivermectin, that any visible wounds have been treated with camaphos, and the animals appear to be free of screwworm. This is necessary to prevent the introduction of screwworm into the United States. If the information were collected less frequently or not collected at all, it would significantly cripple APHIS ability to ensure that horses, ruminants, swine, and dogs imported into the United States are not carrying screwworm. Such a development would make a screwworm incursion much more likely, with economically damaging effects on the U.S. equine, cattle, and swine industries.

Description of Respondents: State, Local or Tribal Government.

Number of Respondents: 40.

Frequency of Responses: Reporting: On occasion.

Total Burden Hours: 40.

Food and Nutrition Service

Title: Annual Report of State Revenue Matching.

OMB Control Number: 0584-0075.

Summary of Collection: The National School Lunch Program is mandated by the National School Lunch Act, 42 U.S.C. 1751 and the Child Nutrition Act of 1966, 42 U.S.C. 1771. The Food and Nutrition Service (FNS) administer the National School Lunch Program. Under the program, States are required to match 30 percent (or a lesser percent based on per capital income) of the Federal funds made available for the School Lunch Program. Annually, the State agencies are required to report to FNS the total funds used in order to receive Federal reimbursement for meals served to eligible participants.

Need and Use of the Information: The information collected allows FNS to monitor State compliance with the revenue matching requirement. Without the information, States may receive Federal funds, which are not warranted. Monitoring the matching of State funds is essential to preventing fraud, waste, and abuse in the National School Lunch Program.

Description of Respondents: State, Local or Tribal Government.

Number of Respondents: 54.

Frequency of Responses: Reporting: Annually.

Total Burden Hours: 4,320.

Food and Nutrition Service

Title: Issuance Reconciliation Report.

OMB Control Number: 0584-0080.

Summary of Collection: The Food Stamp Act of 1977 (the Act) at Section 7(d) requires State agencies to report on Food Stamp Program issuance not less than monthly. The Food and Nutrition Service (FNS), on behalf of the Secretary of Agriculture, administers the Food Stamp Program through State agencies. These State agencies are accountable for issuance and control of food stamp coupons. Accordingly, States are liable to USDA for any financial losses involved in the acceptance, storage, and issuance of food stamp coupons. Information is required from State agencies on wrongfully issued benefits including undocumented issuances, and returned benefits, stolen and transacted accountable issuance documents, replacement benefits, and obligations from the exchange of food stamp coupons for any reason.

Need and Use of the Information: FNS provides the FNS-46 form, Issuance Reconciliation Report, for State agencies to use in reporting reconciliation results from analysis of the benefit issuances for all issuance with the record-for-issuance file. FNS uses this information to assess liability and to determine billing amounts.

Description of Respondents: State, Local or Tribal Government.

Number of Respondents: 96.

Frequency of Responses: Reporting: Monthly.

Total Burden Hours: 22,416.

Forest Service

Title: Forest Stewardship Program Participant Survey.

OMB Control Number: 0596-NEW.

Summary of Collection: The Cooperative Forestry Assistance Act of 1978 (Pub. L. 95-313), and the Food, Agriculture, Conservation and Trade Act of 1990 (Pub. L. 107-171), as amended authorize the Forest Service (FS) through the Forest Stewardship Program to provide technical assistance to non-industrial private forest (NIPF) owners through State Foresters. A primary focus of the Forest Stewardship Program is the development of comprehensive, multi-resource management plans that provide landowners with the information they need to manage their forests for a variety of products and services. The Forest Stewardship Program also assists State forestry agencies with a variety of programs to further support (NIPF) owner planning and management efforts including tree improvement and seedling production, and landowner education programs. FS will collect information using a telephone survey.

Need and Use of the Information: FS will use the information collected from the survey to assess the degree to which stewardship plans are affecting NIPF management, and whether program outcomes are consistent with legislative intent for the program.

Description of Respondents: Individuals or households; farms; State, Local or Tribal Government.

Number of Respondents: 1,200.

Frequency of Responses: Reporting: Other (survey will be conducted once every 5 years).

Total Burden Hours: 400.

National Agricultural Statistics Service

Title: Milk and Milk Products.

OMB Control Number: 0535-0020.

Summary of Collection: The National Agricultural Statistics Service's (NASS) primary function is to prepare and issue current official state and national estimates of crop and livestock production. Estimates of milk production and manufactured dairy products are an integral part of this program. Milk and dairy statistics are used by the U.S. Department of Agriculture (USDA) to help administer price support programs and by the dairy industry in planning, pricing, and projecting supplies of milk and milk products. The general authority for these data collection activities is granted under U.S. Code Title 7, Section 2204.

Need and Use of the Information: NASS will collect information on monthly estimates of stocks, shipments, and selling prices for such products as butter, cheese, dry whey, and nonfat dry milk. Cheddar cheese prices are collected weekly and used by USDA to assist in the determination of the fair market value of raw milk. Estimates of total milk production, number of milk cow, and milk production per cow, are used by the dairy industry in planning, pricing, and projecting supplies of milk and milk products. Collecting data less frequently would prevent USDA and the agricultural industry from keeping abreast of changes at the State and national level.

Description of Respondents: Farms; business or other for-profit.

Number of Respondents: 34,522.

Frequency of Responses: Reporting: Quarterly; weekly; monthly; annually.

Total Burden Hours: 13,086.

Agricultural Marketing Service

Title: Customer Service Survey for USDA—Donated Food Products.

OMB Control Number: 0581-0182.

Summary of Collection: To support the Agricultural Marketing Service (AMS) activities under authority of 7 CFR 250, regulations for the Donation of Food for Use in the United States, Its Territories and Possessions and Areas Under Its Jurisdiction, AMS will use a customer driven approach to maintain and improve the quality of food products and packaging. AMS will use AMS-11, “Customer Opinion Postcard,” to collect information. Customers that use USDA procured commodities to prepare and serve meals retrieve these cards from the boxes and use them to rate their perception of product flavor, texture, and appearance as well as overall satisfaction.

Need and Use of the Information: AMS will collect information on the product type, production lot, and identify the location and type of facility in which the product was served. Without this information, AMS will not be able to obtain timely and accurate information about its products from customers that use them.

Description of Respondents: State, Local or Tribal Government; not-for-profit institutions.

Number of Respondents: 8,400.

Frequency of Responses: Reporting: On occasion.

Total Burden Hours: 700.

Grain Inspection, Packers & Stockyards Administration

Title: “Clear Title”—Protection for Purchasers of Farm Products.

OMB Control Number: 0580-0016.

Summary of Collection: Grain Inspection, Packers and Stockyards Administration (GIPSA) have the responsibility for the Clear Title Program (Section 1324 of the Food Security Act of 1985). The Clear Title Program was enacted to facilitate interstate commerce in farm products and protect purchasers of farm products by enabling States to establish central filing systems. The Food Security Act of 1985 permits the states to establish “central filing systems”. These central filing systems notify buyers of farm products of any mortgages or liens on the products. There are 19 states that currently have certified central filing systems.

Need and Use of the Information: A state submits information one time to GIPSA when applying for certification. GIPSA reviews the information submitted by the states to certify that those central filing systems meet the criteria set forth in section 1324 of the Food Security Act of 1985.

Description of Respondents: Business or other for-profit.

Number of Respondents: 1.

Frequency of Responses: Reporting: On occasion.

Total Burden Hours: 80.

Sondra Blakey,
Departmental Information Collection Clearance Officer.

[FR Doc. 04-22981 Filed 10-18-04; 8:45 am]

BILLING CODE 3410-05-M; 3410-34-M; 3410-30-M; 3410-11-M; 3410-20-M; 3410-02-M; 3410-KD-M